CHEMICAL SAFETY AND HAZARD INVESTIGATION BOARD

Sunshine Act Meeting—September 15, 2009—6 p.m.

In connection with its investigation into the cause of a December 19, 2007, explosion and subsequent chemical fire at the T2 Laboratories, Inc., a chemical manufacturer in Jacksonville, Florida, the Chemical Safety and Hazard Investigation Board announces that it will convene a public meeting on September 15, 2009, starting at 6 p.m. at the Marriott Hotel located at 4670 Salisbury Rd in Jacksonville, Florida in “The Florida Room.”

At the meeting CSB staff will present to the Board the results of their investigation into this incident. Key issues involved in the investigation concern reactive hazard recognition, hazard education, emergency preparedness, and process design and scale-up. This will be followed by a public comment period prior to a Board vote on the report.

Incident Description: On December 19th, T2 Laboratories, Inc. was producing a batch of methylcyclopentadienyl manganese tricarbonyl (MCMT). A problem soon occurred and the process operator had an outside operator call the owners to report a cooling problem and request they return to the site. Upon their return, one of the two owners went to the control room to assist. A few minutes later, the reactor burst and its contents exploded, killing the owner and process operator who were in the control room and two outside operators who were exiting the reactor area. It also injured 32, including four employees and 28 members of the public who were working in surrounding businesses. Debris from the reactor was found up to one mile away, and the explosion damaged buildings within one quarter mile of the facility.

Following the staff presentation and the conclusion of the public comment period, the Board will consider whether to approve the final report and recommendations. All staff presentations are preliminary and are intended solely to allow the Board to consider in a public forum the issues and factors involved in this case. No factual analyses, conclusions or findings presented by staff should be considered final. Only after the Board has considered the final staff presentation, listened to the witnesses and the public comments and approved the staff report will there be an approved final record of this incident.

The meeting will be open to the public. Please notify CSB if a translator or interpreter is needed, at least 5 business days prior to the public meeting. For more information, please contact the Chemical Safety and Hazard Investigation Board at (202) 261-7600, or visit our Web site at: http://www.csb.gov.

Christopher W. Warner,
General Counsel.

[FR Doc. E9-20949 Filed 8-26-09; 4:15 pm]

BILLING CODE 6350-01-P